DEPARTMENT OF JUSTICE

Antitrust Division

Notice Pursuant to the National Cooperative Research and Production Act of 1993—Management Service Providers Association, Inc.

Notice is hereby given that on August 16, 2001, pursuant to Section 6(a) of the National Cooperative Research and Production Act of 1993, 15 U.S.C. 4301 et seq. (“the Act”), Management Service Providers Association, Inc. has filed written notifications simultaneously with the Attorney General and the Federal Trade Commission disclosing changes in its membership status. The notifications were filed for the purpose of extending the Act's provisions limiting the recovery of antitrust plaintiffs to actual damages under specified circumstances. Specifically, Integris, Billerica, MA; ISManaged, Inc., Plano, TX; Kinetica Pty.Ltd., Pymble, NSW, AUSTRALIA; Loudcloud, Sunnyvale, CA; Motorola, Mansfield, MA; Netvein, Inc., Menlo Park, CA; NextNOC, Inc., Irving, TX; NOXENT, Brossard, Quebec, CANADA; RedKlay Web Solutions, Athens, AL; and Telecom Italia Lab, Torino, ITALY have been added as parties to this venture. Also, Manage.Com, San Jose, CA; InsynQ, Inc., Takoma, WA; iSharp, Inc., Redwood City, CA; ManageIT, Houston, TX; UP 7/24, San Diego, CA; Servail, Fairfax, VA; and Tivoli Systems, Inc., Austin, TX have been dropped as parties to this venture.

No other changes have been made in either the membership or planned activity of the group research project. Membership in this group research project remains open, and Management Service Providers Association, Inc. intends to file additional written notification disclosing all changes in membership.

On October 20, 2000, Management Service Providers Association, Inc. filed its original notification pursuant to Section 6(a) of the Act. The Department of Justice published a notice in the Federal Register pursuant to Section 6(b) of the Act on November 24, 2000 (65 FR 70613).

The last notification was filed with the Department on May 15, 2001. A notice was published in the Federal Register pursuant to Section 6(b) of the Act on July 19, 2001 (66 FR 37708).

Constance K. Robinson,
Director of Operations, Antitrust Division.

[FR Doc. 01-23957 Filed 9-24-01; 8:45 am]

BILLING CODE 4410-11-M